ENVIRONMENTAL PROTECTION AGENCY

[FRL OP-OFA-089]

Environmental Impact Statements; Notice of Availability

Responsible Agency: Office of Federal Activities, General Information 202-564-5632 or https://www.epa.gov/nepa.

Weekly receipt of Environmental Impact Statements (EIS)

Filed September 25, 2023 10 a.m. EST Through October 2, 2023 10 a.m. EST Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230131, Draft, USAF, MS, T-7A Recapitalization at Columbus Air Force Base, Mississippi, Comment Period Ends: 11/20/2023, Contact: Chinling Chen 210-395-0979.

EIS No. 20230132, Draft, BOEM, MD, Maryland Offshore Wind, Comment Period Ends: 11/20/2023, Contact: Lorena Edenfield 907-231-7679.

EIS No. 20230133, Final, BOEM, PRO, 2024-2029 National Outer Continental Shelf Oil and Gas Leasing Program, Review Period Ends: 11/06/2023, Contact: Dr. Jill Lewandowski 703-787-1703.

Dated: October 2, 2023.
Cindy S. Barger,
Director, NEPA Compliance Division, Office of Federal Activities.

[FR Doc. 2023-22304 Filed 10-5-23; 8:45 am]

BILLING CODE 6560-50-P